ENVIRONMENTAL PROTECTION AGENCY

[FRL-8183-7]

Science Advisory Board Staff Office; Clean Air Scientific Advisory Committee (CASAC); Notification of a Public Advisory Committee Meeting of the CASAC Lead Review Panel

AGENCY: Environmental Protection Agency (EPA).

ACTION: Notice.

SUMMARY: The Environmental Protection Agency (EPA) Science Advisory Board (SAB) Staff Office announces a public meeting of the Clean Air Scientific Advisory Committee's (CASAC) Lead Review Panel (Panel) to conduct a peer review of EPA's Air Quality Criteria for Lead (Second External Review Draft), Volumes I and II (EPA/600/R-05/144aB-bB, May 2006); and to conduct a consultation on the Agency's Analysis Plan for Human Health and Ecological Risk Assessment for the Review of the Lead National Ambient Air Quality Standards (Draft, May 31, 2006).

DATES: The meeting will be held from 8:30 a.m. (Eastern Time) on Wednesday, June 28, 2006, through 12 p.m. (Eastern Time) on Thursday, June 29, 2006.

Location: The meeting will take place at the Marriott at Research Triangle Park, 4700 Guardian Drive, Durham, NC, 27703, Phone: (919) 941-6200.

FOR FURTHER INFORMATION CONTACT: Any member of the public who wishes to submit a written or brief oral statement (five minutes or less) or wants further information concerning this meeting must contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the CASAC or the EPA Science Advisory Board can be found on the EPA Web site at: http://www.epa.gov/sab.

SUPPLEMENTARY INFORMATION: Background: EPA is in the process of updating, and revising where appropriate, the air quality criteria document (AQCD) for lead. Section 109(d)(1) of the Clean Air Act (CAA) requires that EPA carry out a periodic review and revision, as appropriate, of the air quality criteria and the national ambient air quality standards (NAAQS) for the six “criteria” air pollutants, including lead. On December 1, 2005, EPA's National Center for Environmental Assessment National, Research Triangle Park (NCEA-RTP), within the Agency's Office of Research and Development (ORD), made available for public review and comment a revised draft document, Air Quality Criteria for Lead (First External Review Draft), Volumes I and II (EPA/600/R-05/144aA-bA). This first draft Lead air quality criteria document (AQCD) represented a revision to the previous EPA document, Air Quality Criteria for Lead, EPA-600/8-83/028aF-dF (published in June 1986) and an associated supplement (EPA-600/8-89/049F) published in 1990. Under CAA sections 108 and 109, the purpose of the revised AQCD is to provide an assessment of the latest scientific information on the effects of ambient lead on the public health and welfare, for use in EPA's current review of the NAAQS for lead. Detailed summary information on the revised draft AQCD for lead is contained in a previous EPA Federal Register notice (70 FR 72300, December 2, 2005).

EPA is soliciting advice and recommendations from the CASAC by means of a peer review of the revised draft Lead AQCD. The CASAC, which is comprised of seven members appointed by the EPA Administrator, was established under section 109(d)(2) of the Clean Air Act (CAA or Act) (42 U.S.C. 7409) as an independent scientific advisory committee, in part to provide advice, information and recommendations on the scientific and technical aspects of issues related to air quality criteria and NAAQS under sections 108 and 109 of the Act. The CASAC is a Federal advisory committee chartered under the Federal Advisory Committee Act (FACA), as amended, 5 U.S.C., App. Earlier this year, the SAB Staff Office established a CASAC Lead Review Panel to provide EPA with advice and recommendations concerning lead in ambient air. The Panel complies with the provisions of FACA and all appropriate SAB Staff Office procedural policies.

This meeting is a continuation of the CASAC Lead Review Panel's peer review of the current draft Lead AQCD. The Lead Panel met in a public meeting on February 28 and March 1, 2006 to conduct its initial peer review of the first draft Lead AQCD. The report from that meeting, dated April 26, 2006, is posted on the SAB Web site at: http://www.epa.gov/sab/pdf/casac-06-005.pdf.

In addition, in conjunction with its preparation of the Lead Staff Paper, EPA's Office of Air Quality Planning and Standards (OAQPS), within the Office of Air and Radiation (OAR), on May 31, 2006 released a draft Analysis Plan for Human Health and Ecological Risk Assessment for the Review of the Lead National Ambient Air Quality Standards. The purpose of this analysis plan is to outline the scope, approaches, and methods that Agency staff are planning to use for the human health and ecological risk assessments for lead. This plan also highlights key issues in the estimation of human health and ecological exposure and risks posed by lead under existing air quality levels (“as is” exposures and health risks). Furthermore, this analysis plan is intended to facilitate consultation with the CASAC, as well as public review, for the purpose of obtaining advice on the overall scope, approaches, and key issues in advance of the completion of such analyses and presentation of results in the first draft Lead Staff Paper.

Technical Contact: Any questions concerning the second draft Lead AQCD should be directed to Dr. Lori White, NCEA-RTP, at phone: (919) 541-3146, or e-mail: white.lori@epa.gov. Any questions concerning the Analysis Plan for Human Health and Ecological Risk Assessment for the Review of the Lead National Ambient Air Quality Standards should be directed to Ms. Ginger Tennant, OAQPS, at phone: (919) 541-4072, or e-mail: tennant.ginger@epa.gov.

Availability of Meeting Materials: The Air Quality Criteria for Lead (Second External Review Draft), Volumes I and II (May 2005) can be accessed via the Agency's NCEA Web site at: http://cfpub.epa.gov/ncea/cfm/recordisplay.cfm?deid=154041. The Analysis Plan for Human Health and Ecological Risk Assessment for the Review of the Lead National Ambient Air Quality Standards (Draft, May 31, 2006) can be accessed via EPA's Technology Transfer Network (TTN) Web Site at: http://www.epa.gov/ttn/naaqs/standards/pb/s_pb_cr_pd.html. In addition, a copy of the draft agenda for this meeting will be posted on the SAB Web site at: http://www.epa.gov/sab (under the “Agendas” subheading) in advance of this CASAC Lead Review Panel meeting. Other meeting materials, including the charge to the CASAC Lead Review Panel, will be posted on the SAB Web site prior to this meeting at: http://www.epa.gov/sab/panels/casac_lead_review_panel.htm.

Procedures for Providing Public Input: Interested members of the public may submit relevant written or oral information for the CASAC Lead Review Panel to consider during the advisory process. Oral Statements: In general, individuals or groups requesting an oral presentation at a public meeting will be limited to five minutes per speaker, with no more than a total of one hour for all speakers. Interested parties should contact Mr. Butterfield, DFO, in writing (preferably via e-mail), by June 21, 2006, at the contact information noted above, to be placed on the public speaker list for this meeting. Written Statements: Written statements should be received in the SAB Staff Office by June 23, 2006, so that the information may be made available to the Panel for their consideration prior to this meeting. Written statements should be supplied to the DFO in the following formats: one hard copy with original signature, and one electronic copy via e-mail (acceptable file format: Adobe Acrobat PDF, WordPerfect, MS Word, MS PowerPoint, or Rich Text files in IBM-PC/Windows 98/2000/XP format).

Accessibility: For information on access or services for individuals with disabilities, please contact Mr. Butterfield at the phone number or e-mail address noted above, preferably at least ten days prior to the meeting, to give EPA as much time as possible to process your request.

Dated: June 7, 2006.
Anthony F. Maciorowski,
Associate Director for Science, EPA Science Advisory Board Staff Office.

[FR Doc. E6-9186 Filed 6-12-06; 8:45 am]

BILLING CODE 6560-50-P